INTERNATIONAL TRADE COMMISSION

[Investigation Nos. 731-TA-1505-1507, 1510-1511, 1513, and 1515 (Final)]

Prestressed Concrete Steel Wire Strand from Indonesia, Italy, Malaysia, South Africa, Spain, Tunisia, and Ukraine; Scheduling of the Final Phase of Antidumping Duty Investigations

AGENCY: United States International Trade Commission.

ACTION: Notice.

DATES: April 9, 2021.

FOR FURTHER INFORMATION CONTACT: Lawrence Jones ((202) 205-3358), Office of Investigations, U.S. International Trade Commission, 500 E Street SW, Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (https://www.usitc.gov). The public record for these investigations may be viewed on the Commission's electronic docket (EDIS) at https://edis.usitc.gov.

SUPPLEMENTARY INFORMATION: Effective September 23, 2020, the Commission established a general schedule for the conduct of the final phase of its investigations on prestressed concrete steel wire strand (“PC strand”) from Argentina, Colombia, Egypt, Indonesia, Italy, Malaysia, Netherlands, Saudi Arabia, South Africa, Spain, Taiwan, Tunisia, Turkey, Ukraine, and the United Arab Emirates,¹ following preliminary determinations by the U.S. Department of Commerce (“Commerce”) that imports of subject PC strand from Argentina, Colombia, Egypt, Netherlands, Saudi Arabia, Taiwan, Turkey, and the United Arab Emirates were being sold at less than fair value (“LTFV”) and subsidized by the government of Turkey.² Notice of the scheduling of the

¹ Prestressed Concrete Steel Wire Strand from Argentina, Colombia, Egypt, Indonesia, Italy, Malaysia, Netherlands, Saudi Arabia, South Africa, Spain, Taiwan, Tunisia, Turkey, Ukraine, and the United Arab Emirates; Scheduling of the Final Phase of Countervailing Duty and Antidumping Duty Investigations, 85 FR 63576, October 8, 2020.

² Prestressed Concrete Steel Wire from the Republic of Turkey: Preliminary Affirmative Countervailing Duty Determination, Preliminary Affirmative Critical Circumstances Determination, in Part, 85 FR 59287, September 21, 2020; Prestressed Concrete Steel Wire Strand from Argentina, Colombia, Egypt, the Netherlands, Saudi Arabia, the Republic of Turkey, and the United Arab Emirates: Preliminary Affirmative Determinations of Sales at LTFV and Preliminary Affirmative Critical Circumstances Determinations, in Part, 85 FR 61722, September 30, 2020. See also Commerce's additional preliminary determination: Prestressed Concrete Steel Wire Strand from Taiwan: Preliminary Affirmative Determination of Sales at Less Than Fair Value, 85 FR 61726, September 30, 2020; and Commerce's postponement of the remaining preliminary determinations: Prestressed Concrete Steel Wire Strand from Indonesia, Italy, Malaysia, South Africa, Spain, Tunisia, and Ukraine: Postponement of Preliminary Determinations in the Less-Than-Fair-Value Investigations, 85 FR 55413, September 8, 2020.

final phase of the Commission's investigations and of a public hearing held in connection therewith was given by posting copies of the notice in the Office of the Secretary, U.S. International Trade Commission, Washington, DC, and by publishing the notice in the Federal Register on October 8, 2020 (85 FR 63576). In light of the restrictions on access to the Commission building due to the COVID-19 pandemic, the Commission conducted its hearing through written testimony and video conference on December 10, 2020. All persons who requested the opportunity were permitted to participate.

The Commission subsequently issued its final determinations that an industry in the United States was materially injured by reason of imports of PC strand from Argentina, Colombia, Egypt, Netherlands, Saudi Arabia, Taiwan, Turkey, and the United Arab Emirates provided for in subheading 7312.10.30 of the Harmonized Tariff Schedule of the United States (“HTSUS”) that have been found by the Commerce to be sold in the United States at LTFV and subsidized by the government of Turkey. Commerce has issued final affirmative antidumping duty determinations with respect to PC strand from Indonesia,³ Italy,⁴ Malaysia,⁵ South Africa,⁶ Spain,⁷ Tunisia,⁸ and Ukraine.⁹ Accordingly, the Commission currently is issuing a supplemental schedule for its antidumping duty investigations on imports of PC strand from Indonesia, Italy, Malaysia, South Africa, Spain, Tunisia, and Ukraine. This supplemental schedule is as follows: the deadline for filing supplemental party comments on Commerce's final antidumping duty determinations is April 19, 2021. Supplemental party comments may address only Commerce's final antidumping duty determinations regarding imports of PC strand from Indonesia, Italy, Malaysia, South Africa, Spain, Tunisia, and Ukraine. These supplemental final comments may not contain new factual information and may not exceed five (5) pages in length. The supplemental staff report in the final phase of these investigations regarding subject imports from Indonesia, Italy, Malaysia, South Africa, Spain, Tunisia, and Ukraine will be placed in the nonpublic record on May 4, 2021; and a public version will be issued thereafter.

³ Prestressed Concrete Steel Wire Strand from Indonesia: Final Affirmative Determination of Sales at Less Than Fair Value, and Final Affirmative Determination of Critical Circumstances, In Part, 86 FR 18495, April 9, 2021.

⁴ Prestressed Concrete Steel Wire Strand from Italy: Final Affirmative Determination of Sales at Less Than Fair Value, and Final Negative Determination of Critical Circumstances, 86 FR 18505, April 9, 2021.

⁵ Prestressed Concrete Steel Wire Strand from Malaysia: Final Affirmative Determination of Sales at Less Than Fair Value, 86 FR 18502, April 9, 2021.

⁶ Prestressed Concrete Steel Wire Strand from South Africa: Final Affirmative Determination of Sales at Less Than Fair Value, 86 FR 18497, April 9, 2021.

⁷ Prestressed Concrete Steel Wire Strand from Spain: Final Affirmative Determination of Sales at Less Than Fair Value, and Final Negative Determination of Critical Circumstances, 86 FR 18512, April 9, 2021.

⁸ Prestressed Concrete Steel Wire Strand from Tunisia: Final Affirmative Determination of Sales at Less Than Fair Value, 86 FR 18508, April 9, 2021.

⁹ Prestressed Concrete Steel Wire Strand from Ukraine: Final Affirmative Determination of Sales at Less Than Fair Value, and Final Negative Determination of Critical Circumstances, 86 FR 18498, April 9, 2021.

For further information concerning these investigations see the Commission's notice cited above and the Commission's Rules of Practice and Procedure, part 201, subparts A and B (19 CFR part 201), and part 207, subparts A and C (19 CFR part 207). Additional written submissions to the Commission, including requests pursuant to section 201.12 of the Commission's rules, shall not be accepted unless good cause is shown for accepting such submissions, or unless the submission is pursuant to a specific request by a Commissioner or Commission staff.

In accordance with sections 201.16(c) and 207.3 of the Commission's rules, each document filed by a party to the investigations must be served on all other parties to the investigations (as identified by either the public or BPI service list), and a certificate of service must be timely filed. The Secretary will not accept a document for filing without a certificate of service.

Authority: : These investigations are being conducted under authority of title VII of the Tariff Act of 1930; this notice is published pursuant to section 207.21 of the Commission's rules.

By order of the Commission.
Issued Date: April 15, 2021.
Lisa Barton,
Secretary to the Commission.

[FR Doc. 2021-08178 Filed 4-20-21; 8:45 am]

BILLING CODE 7020-02-P